DEPARTMENT OF HOMELAND SECURITY

Coast Guard

33 CFR Part 117

[Docket No. USCG-2017-0161]

Drawbridge Operation Regulation; Canaveral Barge Canal, Canaveral, FL

AGENCY: Coast Guard, DHS.

ACTION: Notice of deviation from drawbridge regulation.

SUMMARY: The Coast Guard has issued a temporary deviation from the operating schedule that governs the SR 401 Drawbridge, mile 5.5 at Port Canaveral, Florida. The deviation is necessary to allow fuel trucks a less restrictive access to and from Port Canaveral to pick up and deliver fuel due to the critical fuel supply in the region. With the passage of Hurricane Irma, delivery of fuel from the port is critical to the local community and beyond. This deviation allows the bridge to remain closed to navigation the majority of the day to facilitate the safe passage of vehicles picking up and delivering fuel.

DATES: This deviation is effective without actual notice from September 21, 2017 through 6 a.m. on October 14, 2017. For the purposes of enforcement, actual notice will be used from 6 a.m. on September 18, 2017, until October 12, 2017.

ADDRESSES: The docket for this deviation, USCG-2017-0161 is available at http://www.regulations.gov. Type the docket number in the “SEARCH” box and click “SEARCH”. Click on Open Docket Folder on the line associated with this deviation.

FOR FURTHER INFORMATION CONTACT: If you have questions on this temporary deviation, call or email LT Allan Storm, Sector Jacksonville, Waterways Management Division, U.S. Coast Guard; telephone 904-714-7616, email Allan.H.Storm@uscg.mil.

SUPPLEMENTARY INFORMATION: On April 25, 2017, the Coast Guard published a temporary deviation entitled “Drawbridge Operation Regulation; Canaveral Barge Canal, Canaveral, FL in the Federal Register (82 FR 18989). Under that temporary deviation, the bridge would remain in the closed-to-navigation position from 11 a.m. to 2 p.m. on Saturdays and Sundays. On September 14, 2017, the Coast Guard received a request from Florida Department of Transportation the bridge owner, on behalf of the Port of Canaveral and Brevard County Emergency Operations Commission to modify the bridge operation schedule. This temporary deviation would suspend this prior action and allow the bridge to open on demand from 6 a.m. to 6:30 a.m., noon to 2 p.m., 6 p.m. to 6:30 p.m., and 9 p.m. to 9:30 p.m. daily.

Vessels able to pass through the bridge in the closed position may do so at any time. The bridge will be able to open for emergencies and there is no immediate alternate route for vessels to pass through the bridge in closed positions. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 18, 2017.
Barry L. Dragon,
Director, Bridge Branch, Seventh Coast Guard District.

[FR Doc. 2017-20207 Filed 9-20-17; 8:45 am]

BILLING CODE 9110-04-P